DEPARTMENT OF TRANSPORTATION

Federal Aviation Administration

14 CFR Part 39

[Docket No. FAA-2005-21355; Directorate Identifier 2005-NM-037-AD; Amendment 39-14288; AD 2005-19-23]

RIN 2120-AA64

Airworthiness Directives; Boeing Model 767-200, -300, and -300F Series Airplanes Powered by General Electric or Pratt & Whitney Engines

AGENCY: Federal Aviation Administration (FAA), Department of Transportation (DOT).

ACTION: Final rule.

SUMMARY: The FAA is superseding an existing airworthiness directive (AD), which applies to certain Boeing Model 767 series airplanes. That AD currently requires repetitive inspections to detect discrepancies of the eight aft-most fastener holes in the horizontal tangs of the midspar fitting of the strut, and corrective actions if necessary. That AD also provides an optional terminating action for the repetitive inspections. This new AD adds repetitive inspections for cracks of the closeout angle that covers the two aft-most fasteners in the lower tang of the midspar fitting, and related investigative and corrective actions if necessary. This AD also reduces the inspection interval of the upper tang of the outboard midspar fitting; and provides an optional terminating action for the repetitive inspections. This AD results from a report of a crack in a closeout angle that covers the two aft-most fasteners in the lower tang of the midspar fitting; and the discovery of a crack in the lower tang of the midspar fitting under the cracked closeout angle. We are issuing this AD to prevent fatigue cracking in the primary strut structure and reduced structural integrity of the strut, which could result in separation of the strut and engine.

EFFECTIVE DATE: This AD becomes effective October 27, 2005.

The Director of the Federal Register approved the incorporation by reference of Boeing Alert Service Bulletin 767-54A0101, Revision 4, dated February 10, 2005, listed in the AD as of October 27, 2005.

On June 9, 2004 (69 FR 24947, May 5, 2004), the Director of the Federal Register approved the incorporation by reference of Boeing Service Bulletin 767-54A0101, Revision 3, dated September 5, 2002.

On May 15, 2001 (66 FR 18523, April 10, 2001), the Director of the Federal Register approved the incorporation by reference of Boeing Service Bulletin 767-54A0101, Revision 1, dated February 3, 2000.

ADDRESSES: You may examine the AD docket on the Internet at http://dms.dot.gov or in person at the Docket Management Facility, U.S. Department of Transportation, 400 Seventh Street, SW., Nassif Building, room PL-401, Washington, DC.

Contact Boeing Commercial Airplanes, P.O. Box 3707, Seattle, Washington 98124-2207, for service information identified in this AD.

FOR FURTHER INFORMATION CONTACT: Candice Gerretsen, Aerospace Engineer, Airframe Branch, ANM-120S, FAA, Seattle Aircraft Certification Office, 1601 Lind Avenue, SW., Renton, Washington 98055-4056; telephone (425) 917-6428; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2004-09-14, amendment 39-13603 (69 FR 24947, May 5, 2004). The existing AD applies to certain Model 767 series airplanes. That NPRM was published in the Federal Register on June 3, 2005 (70 FR 32527). That NPRM proposed to continue to require repetitive inspections to detect discrepancies of the eight aft-most fastener holes in the horizontal tangs of the midspar fitting of the strut, and corrective actions if necessary. That NPRM also proposed to require repetitive inspections for cracks of the closeout angle that covers the two aft-most fasteners in the lower tang of the midspar fitting, and related investigative and corrective actions if necessary. That NPRM also proposed to reduce the inspection interval of the upper tang of the outboard midspar fitting; and to provide an optional terminating action for the repetitive inspections.

Comments

We provided the public the opportunity to participate in the development of this AD. We have considered the comments received.

Request To Remove Airplane Reference From Applicability

The airplane manufacturer requests that we remove the reference to Boeing Model 767-400ER series airplanes from the applicability of the NPRM. The commenter points out that these airplanes have improved corrosion resistant steel (CRES) mid-spar fittings.

We agree with the commenter. The Model 767-400ER series airplanes are not included in the effectivity of the Boeing Alert Service Bulletin 767-54A0101, Revision 4, dated February 10, 2005 (which was cited as the appropriate source of service information for doing the actions in the NPRM), but were inadvertently included in the applicability of the NPRM. We have changed the final rule to remove this model designation from the applicability.

Request To Include Inspection Requirements for Airplanes With CRES Repair Strap

The same commenter points out that some airplanes have had the closeout angle previously repaired by the addition of a CRES repair strap. This repair strap covers two aft-most bolts of the closeout angle at the midspar fitting. The commenter states that the repair strap prevents high-frequency eddy current inspections of the closeout angle. The commenter requests that the final rule include inspection requirements for these airplanes.

We partially agree with the commenter. We agree that additional inspections may be required for these airplanes. We disagree with including inspection requirements for these airplanes in the final rule. In accordance with 14 CFR 39.17, if the original airplane configuration is altered, modified, or repaired in any way that may affect the ability to accomplish the actions of an AD, the operator should apply for an alternative method of compliance (AMOC) through the FAA. Information about AMOCs is included in paragraph (q) of the final rule. We have not changed the final rule in this regard.

Explanation of Change Made to Paragraph (i)

We have simplified paragraph (i) of the final rule by referring to the “Alternative Methods of Compliance (AMOCs)” paragraph of this AD for repair methods.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Option 1: Detailed inspection (required by AD 2004-09-14) | 1 | $65 | None | $65, per inspection cycle | 263 | N/A (depends on chosen option).
Option 2: HFEC inspection (required by AD 2004-09-14) | 3 | $65 | None | $195, per inspection cycle | 263 | N/A (depends on chosen option).
HFEC inspection (new proposed action) | 4 | $65 | None | $260, per inspection cycle | 263 | $68,380, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13603 (69 FR 24947, May 5, 2004) and by adding the following new airworthiness directive (AD):

2005-19-23 Boeing: Amendment 39-14288. Docket No. FAA-2005-21355; Directorate Identifier 2005-NM-037-AD.

Effective Date

(a) This AD becomes effective October 27, 2005.

Affected ADs

(b) This AD supersedes AD 2004-09-14.

Applicability

(c) This AD applies to Boeing Model 767-200, -300, and -300F series airplanes, certificated in any category, as identified in Boeing Alert Service Bulletin 767-54A0101, Revision 4, dated February 10, 2005.

Unsafe Condition

(d) This AD was prompted by a report of a crack in a closeout angle that covers the two aft-most fasteners in the lower tang of the midspar fitting; and the discovery of a crack in the lower tang of the midspar fitting under the cracked closeout angle. We are issuing this AD to prevent fatigue cracking in the primary strut structure and reduced structural integrity of the strut, which could result in separation of the strut and engine.

Compliance

(e) You are responsible for having the actions required by this AD performed within the compliance times specified, unless the actions have already been done.

Restatement of Requirements of AD 2004-09-14

Repetitive Inspections

(f) Except as provided by paragraph (g) of this AD, before the accumulation of 10,000 total flight cycles, or within 600 flight cycles after May 15, 2001 (the effective date of AD 2001-07-05, amendment 39-12170), whichever occurs later: Accomplish the inspections required by paragraph (f)(1) or (f)(2) of this AD, as applicable.

(1) Perform a detailed inspection of the four aft-most fastener holes in the horizontal tangs of the midspar fitting of the strut to detect cracking, in accordance with Part 1, “Detailed Inspection,” of the Accomplishment Instructions of Boeing Service Bulletin 767-54A0101, Revision 1, dated February 3, 2000. If no cracking is detected, repeat the inspection thereafter at the applicable intervals specified in Table 1, “Reinspection Intervals for Part 1—Detailed Inspection” included in Figure 1 of the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(2) Perform a high frequency eddy current (HFEC) inspection of the four aft-most fastener holes in the horizontal tangs of the midspar fitting of the strut to detect discrepancies (cracking, incorrect fastener hole diameter), in accordance with Part 2, “High Frequency Eddy Current (HFEC) Inspection,” of the Accomplishment Instructions of the service bulletin. Accomplish the requirements specified in paragraph (f)(2)(i) or (f)(2)(ii) of this AD, as applicable; and repeat the inspection thereafter at the applicable intervals specified in Table 2, “Reinspection Intervals for Part 2—HFEC Inspection” included in Figure 1 of the service bulletin.

(i) If no cracking is detected and the fastener hole diameter is less than or equal to 0.5322 inch, before further flight, rework the hole in accordance with Part 3 of the Accomplishment Instructions of the service bulletin.

(ii) If no cracking is detected and the fastener hole diameter is greater than 0.5322 inch, before further flight, accomplish the requirements specified in either paragraph (h)(1) or (h)(2) of this AD.

(g) For airplanes on which the two aft-most fasteners have been inspected in accordance with Boeing Service Bulletin 767-54A0101, Revision 1, dated February 3, 2000, prior to May 15, 2001: Perform the initial inspection of the four aft-most fasteners in accordance with paragraph (f) of this AD before the accumulation of 10,000 total flight cycles, or within 1,500 flight cycles after May 15, 2001, whichever occurs later.

Corrective Actions

(h) If any cracking is detected after accomplishment of any inspection required by paragraph (f) of this AD, before further flight, accomplish the requirements specified in either paragraph (h)(1) or (h)(2) of this AD.

(1) Accomplish the terminating action specified in Part 4 of the Accomplishment Instructions of Boeing Service Bulletin 767-54A0101, Revision 1, dated February 3, 2000; Boeing Service Bulletin 767-54A0101, Revision 3, dated September 5, 2002; or Boeing Alert Service Bulletin 767-54A0101, Revision 4, dated February 10, 2005. Accomplishment of this paragraph terminates the requirements of this AD. After the effective date of this AD, only Boeing Alert Service Bulletin 767-54A0101, Revision 4, may be used.

(2) Replace the midspar fitting of the strut with a serviceable part, or repair in accordance with a method approved by the Manager, Seattle Aircraft Certification Office (ACO), FAA. Repeat the applicable inspection thereafter at the applicable time specified in paragraph (f)(1) or (f)(2) of this AD.

(i) If any discrepancies (cracking, incorrect fastener hole diameter) are detected during any inspection required by paragraph (f) or (p) of this AD, for which the service bulletin specifies that the manufacturer may be contacted for disposition of those repair conditions: Before further flight, accomplish the applicable related investigative and corrective actions (including fastener hole rework and/or midspar fitting replacement) using a method approved in accordance with the procedures specified in paragraph (q) of this AD.

Additional Inspections

(j) Prior to the accumulation of 10,000 total flight cycles, or within 600 flight cycles after June 9, 2004 (the effective date of AD 2004-09-14), whichever occurs later: Perform the inspections specified in paragraph (f)(1) or (f)(2) of this AD, as applicable, on all eight aft-most fastener holes or the four forward fastener holes in the group of eight aft-most fastener holes not inspected per paragraph (f)(1), (f)(2), or (g) of this AD. The inspection must be done per the Accomplishment Instructions in Boeing Service Bulletin 767-54A0101, Revision 3, dated September 5, 2002; or Boeing Alert Service Bulletin 767-54A0101, Revision 4, dated February 10, 2005. Accomplishment of the applicable inspection on all eight aft-most fastener holes constitutes terminating action for the repetitive inspection requirements of paragraphs (f)(1), (f)(2), and (g) of this AD.

(k) If no cracking or discrepancy is detected during any detailed inspection required by paragraph (j) of this AD, repeat the inspections of all eight aft-most fastener holes thereafter at the applicable intervals specified in Table 1 of this AD.

(l) If no cracking or discrepancy is detected during any HFEC inspection required by paragraph (j) of this AD or by this paragraph of this AD: Perform the follow-on actions specified in paragraph (f)(2)(i) or (f)(2)(ii) of this AD, as applicable, per the Accomplishment Instructions in Boeing Service Bulletin 767-54A0101, Revision 3, dated September 5, 2002; or Boeing Alert Service Bulletin 767-54A0101, Revision 4, dated February 10, 2005; and repeat the inspections of all eight aft-most fastener holes thereafter at the applicable intervals specified in Table 1 of this AD.

Table 1.—Repetitive Inspection Intervals for All Eight Aft-Most Fastener Holes
If— | Repetitive intervals—
(1) All eight aft-most fastener holes were inspected per paragraph (j) of this AD: | At the applicable intervals specified in Table 1, “Reinspection Intervals for Part 1,” or Table 2, “Reinspection Intervals for Part 2,” as applicable. Both tables are included in Figure 1 of the applicable service bulletin.
| Within 1,500 flight cycles after the effective date of this AD, only the repetitive intervals in Boeing Alert Service Bulletin 767-54A0101, Revision 4, dated February 10, 2005, may be used.
(2) Only the four forward fastener holes in the group of eight aft-most fastener holes were inspected per paragraph (j) of this AD: | At the next scheduled repetitive inspection required by paragraph (f)(1) of (f)(2) of this AD, as applicable. Thereafter at the applicable intervals specified in Table 1, “Reinspection Intervals for Part 1,” or Table 2, “Reinspection Intervals for Part 2,” as applicable. Both tables are included in Figure 1 of the applicable service bulletin.
| Within 1,500 flight cycles after the effective date of this AD, only the repetitive intervals in Boeing Alert Service Bulletin 767-54A0101, Revision 4, dated February 10, 2005, may be used.

Corrective Actions for Discrepancies

(m) If any cracking or discrepancy is detected during any inspection required by paragraphs (j), (k), or (l) of this AD, before further flight: Accomplish the corrective actions described in paragraph (h) of this AD, except as provided in paragraph (i) of this AD.

Service Bulletin Revisions

(n) Accomplishing the terminating action in paragraph (h)(1) of this AD before June 9, 2004, in accordance with the service bulletin revisions in Table 2 of this AD, is acceptable for compliance with the requirements of this AD. After the effective date of this AD, only Boeing Alert Service Bulletin 767-54A0101, Revision 4, dated February 10, 2005, may be used for accomplishing the terminating action in paragraph (h)(1) of this AD.

Table 2.—Service Bulletins for Terminating Action
Service bulletin | Revision | Date
Boeing Alert Service Bulletin 767-54A0101 | Original | September 23, 1999.
Boeing Service Bulletin 767-54A0101 | 2 | January 10, 2002.

Inspections Accomplished per Previous Issues of Service Bulletin

(o) Inspections required by paragraphs (f) and (g) of this AD that are accomplished before June 9, 2004, in accordance with the service bulletin revisions in Table 3 of this AD are considered acceptable for compliance with the corresponding action specified in this AD.

Table 3.—Service Bulletins for Previously Accomplished Inspections
Boeing service bulletin | Revision | Date
Boeing Service Bulletin 767-54A0101 | 2 | January 10, 2002.
Boeing Service Bulletin 767-54A0101 | 3 | September 5, 2002.
Boeing Alert Service Bulletin 767-54A0101 | 4 | February 10, 2005.

New Requirements of This AD

Inspections of Closeout Angle and Corrective Action

(p) For airplanes for which the “Reinspection Intervals for Part 1,” referenced in Table 1 of paragraph (l) of this AD apply: At the next applicable inspection, do an HFEC inspection for cracks of the closeout angle that covers the two aft-most fasteners in the lower tang of the midspar fitting and any related investigative and corrective actions, by doing all the applicable actions specified in the Accomplishment Instructions of Boeing Alert Service Bulletin 767-54A0101, Revision 4, dated February 10, 2005. Repeat the inspection at the applicable interval in Table 1, “Reinspection Intervals for Part 1,” in Figure 1 of the alert service bulletin.

Note 2: Boeing Alert Service Bulletin 767-54A0101, Revision 4, dated February 10, 2005, refers to the Boeing service bulletins in the Table 4 of this AD as additional sources of service information for doing the terminating action in paragraph (h)(1) of this AD.

Table 4.—Additional Sources of Service Information
Boeing service bulletin | Revision level | Date | Title
767-54-0052 | Original | June 11, 1992 | Nacelles/Pylons—Strut—Aft Lower Spar—Fastener Corrosion—Inspection and Replacement.
767-54-0061 | 2 | November 23, 1999 | Nacelles/Pylons—Wing-to-Strut Attach Fittings—Lower Spar Bushing Inspection and Replacement.
767-54-0069 | 2 | August 31, 2000 | Nacelles/Pylons—Midspar Fitting—Underwing Sideload Fitting—Fuse Pin Replacement and Wing Rework.
767-54-0072 | Original | March 13, 1997 | Nacelles/Pylons—Strut Attach Upper Link—Upper Link Inspection, Rework or Replacement.
767-54-0074 | Original | March 27, 1997 | Nacelles/Pylons—Strut Attach Fuse Pins—Upper link Fuse Pin Inspection/Replacement. Where this service bulletin refers to a cotter pin with part number (P/N) MS25665-374, the P/N should be MS24665-374. Where this service bulletin says, “If no crack indication is found, reinstall the fuse pin,” the correct statement is “If no crack indication is found, continue to Step F.”
767-54-0080 | 1 | May 9, 2002 | Nacelles/Pylons—Pratt and Whitney Powered Airplanes—Nacelle Strut and Wing Structure Modification.
767-54-0081 | 1 | February 7, 2002 | Nacelles/Pylons—General Electric Powered Airplanes—Nacelle Strut and Wing Structure Modification.
767-54A0062 | 5 | November 11, 2002 | Nacelles/Pylons—Strut Attach Fuse Pins—Midspar Fuse Pin Inspection and Replacement.
767-54A0094 | 2 | February 7, 2002 | Nacelles/Pylons—Strut-to-Wing Attachment—Diagonal Brace Inspection/Rework/Replacement.
767-57-0063 | 1 | November 30, 2000 | Wings—Side Load Underwing Fitting—Inspection/Rework.

Note 3: Certain service bulletins referenced in Table 4 of this AD are related to the ADs listed in Table 5 of this AD.

Table 5.—Other Relevant Rulemaking
AD | Applicability | Related Boeing service bulletin | AD requirement
AD 94-11-02, amendment 39-8918, (59 FR 27229, May 26, 1994) | All Boeing Model 767 series airplanes | 767-54A0062 | Repetitive detailed visual and eddy current inspections to detect cracks of certain midspar fuse pins, and replacement of any cracked midspar fuse pin with a new fuse pin.
AD 99-07-06, amendment 39-11091 (64 FR 14578, March 26, 1999) | Certain Boeing Model 767 series airplanes | 767-54A0094 | Repetitive inspections to detect cracking or damage of the forward and aft lugs of the diagonal brace of the nacelle strut; follow-on actions, if necessary; and an optional terminating action for the repetitive inspections. Superseded by AD 2000-07-05.
AD 2000-07-05, amendment 39-11659 (65 FR 18883, April 10, 2000) | Certain Boeing Model 767 series airplanes | 767-54A0094 | Requires the previously optional terminating action of AD 99-07-06.
AD 2000-10-51, amendment 39-11770 (65 FR 37011, June 13, 2000) | Certain Boeing Model 767 series airplances | 767-54-0074 | One-time inspection to determine whether certain bolts are installed in the side load underwing fittings on both struts, and various follow-on actions, if necessary.
AD 2001-02-07, amendment 39-12091 (66 FR 8085, January 29, 2001) | Certain Boeing Model 767 series airplanes powered by Pratt & Whitney engines | 767-54-0069, 767-54-0080, and 767-54-0094 | Modification of the nacelle strut and wing structure. Terminates certain requirements of AD 94-11-02.
AD 2001-06-12, amendment 39-12159 (66 FR 17492, April 2, 2001) | Certain Boeing Model 767 series airplanes powered by General Electric engines | 767-54-0069, 767-54-0081, and 767-54-0094 | Modification of the nacelle strut and wing structure. Terminates certain requirements of AD 94-11-02.
AD 2003-03-02, amendment 39-13026 (68 FR 4374, January 29, 2003) | All Boeing Model 767 series airplanes | 767-54A0062 | Supersedes AD 94-11-02; Retains all requirements but reduces certain compliance times for certain inspections, expands the detailed and eddy current inspections, and limits the applicability.

Alternative Methods of Compliance (AMOCs)

(q)(1) The Manager, Seattle ACO, FAA, has the authority to approve AMOCs for this AD, if requested in accordance with the procedures found in 14 CFR 39.19.

(2) AMOCs approved previously according to AD 2004-09-14, amendment 39-13603, are approved as AMOCs for the corresponding requirements of this AD.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

(4) Before using any AMOC approved in accordance with § 39.19 on any airplane to which the AMOC applies, notify the appropriate principal inspector in the FAA Flight Standards Certificate Holding District Office.

Material Incorporated by Reference

(r) You must use the service information identified in Table 6 of this AD to perform the actions that are required by this AD, unless the AD specifies otherwise.

Table 6.—Material Incorporated by Reference
Service bulletin | Revision level | Date
Boeing Service Bulletin 767-54A0101 | 1 | February 3, 2000.
Boeing Service Bulletin 767-54A0101 | 3 | September 5, 2002.
Boeing Alert Service Bulletin 767-54A0101 | 4 | February 10, 2005.

(1) The Director of the Federal Register approved the incorporation by reference of Boeing Alert Service Bulletin 767-54A0101, Revision 4, dated February 10, 2005, in accordance with 5 U.S.C. 552(a) and 1 CFR part 51.

(2) On June 9, 2004 (69 FR 24947, May 5, 2004), the Director of the Federal Register approved the incorporation by of Boeing Service Bulletin 767-54A0101, Revision 3, dated September 5, 2002.

(3) On May 15, 2001 (66 FR 18523, April 10, 2001), the Director of the Federal Register approved the incorporation by reference of Boeing Service Bulletin 767-54A0101, Revision 1, dated February 3, 2000.

(4) Contact Boeing Commercial Airplanes, P.O. Box 3707, Seattle, Washington 98124-2207, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 13, 2005.
Kalene C. Yanamura,
Acting Manager, Transport Airplane Directorate, Aircraft Certification Service.

[FR Doc. 05-18785 Filed 9-21-05; 8:45 am]

BILLING CODE 4910-13-P